DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel, Comparative Medicine Training Grants.

Date: June 19, 2006.

Time: 2 p.m. to 4 p.m.

Agenda: To review and evaluate grant applications.

Place: National Institutes of Health, One Democracy Plaza, 6701 Democracy Boulevard, Conference Room 1087, Bethesda, MD 20892. (Telephone Conference Call).

Contact Person: Mahadev Murthy, MBA, Scientific Review Administrator, National Institutes of Health, National Center for Research Resources, Ofc of Review, 6701 Democracy Blvd., 1 Democracy Plaza, Room 1070, Bethesda, MD 20892. (301) 435-0813. mmurthy@mail.nih.gov.

Name of Committee: National Center for Research Resources Special Emphasis Panel, Comparative Medicine U42/R01

Date: June 21, 2006.

Time: 2 p.m. to 4 p.m.

Agenda: To review and evaluate grant applications.

Place: National Institutes of Health, One Democracy Plaza, 6701 Democracy Boulevard, Conference Room 1087, Bethesda, MD 20892. (Telephone Conference Call).

Contact Person: Mahadev Murthy, MBA, Scientific Review Administrator, National Institutes of Health, National Center for Research Resources, Ofc of Review, 6701 Democracy Blvd., 1 Democracy Plaza, Room 1070, Bethesda, MD 20892. (301) 435-0813. mmurthy@mail.nih.gov.

Name of Committee: National Center for Research Resources Special Emphasis Panel, Comparative Medicine R24 SEP

Date: June 29, 2006.

Time: 2 p.m. to 4 p.m.

Agenda: To review and evaluate grant applications.

Place: National Institutes of Health, One Democracy Plaza, 6701 Democracy Boulevard, Conference Room 1087, Bethesda, MD 20892. (Telephone Conference Call).

Contact Person: Mahadev Murthy, MBA, Scientific Review Administrator, National Institutes of Health, National Center for Research Resources, Ofc of Review, 6701 Democracy Blvd., 1 Democracy Plaza, Room 1070, Bethesda, MD 20892. (301) 435-0813. mmurthy@mail.nih.gov.

(Catalogue of Federal Domestic Assistance Program Nos. 93.306, Comparative Medicine; 93.333, Clinical Research; 93.371, Biomedical Technology; 93.389, Research Infrastructure, 93.306, 93.333, National Institutes of Health, HHS)

Dated: May 23, 2006.
Anna Snouffer,
Acting Director, Office of Federal Advisory Committee Policy.

[FR Doc. 06-4980 Filed 5-30-06; 8:45 am]

BILLING CODE 4140-01-M